DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigation are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request is filed in writing with the Director of DTAA not later than May 22, 2000.

Also, interested persons are invited to submit written comments regarding the subject matter of the petitions to the Director of DTAA at the address shown below not later than May 22, 2000.

Petitions filed with the Governors are available for inspection at the Office of the Director, DTAA, ETA, DOL, Room C-4318, 200 Constitution Avenue, NW., Washington, DC 20210.

Signed at Washington, DC this 4th day of May 2000.
Grant D. Beale,
Program Manager, Division of Trade Adjustment Assistance.

Appendix
Subject firm | Location | Date received at Governor's Office | Petition number | Articles produced
Swiss-M-Tex (Wkrs) | Travelers Rest, SC | 03/21/2000 | NAFTA-3,810 | embroidered textile products.
Stant Manufacturing (IBB) | Connersvile, IN | 03/16/2000 | NAFTA-3,811 | plated fuel rails.
Exide Corporation (Co.) | Reading, PA | 03/22/2000 | NAFTA-3,812 | auto batteries.
C.P. Lighting (Wkrs) | Pottsville, PA | 03/22/2000 | NAFTA-3,813 | finished table & floor lamps.
Chevron Products (UNITE) | El Paso, TX | 03/22/2000 | NAFTA-3,814 | gasoline, diesel, propane & butane.
Russell Athletic Division (Co.) | Ashland, AL | 03/22/2000 | NAFTA-3,815 | knit apparel.
North American Heaters (Co.) | Franklin, TN | 03/20/2000 | NAFTA-3,816 | electrical heating elements.
United States Sales (Wkrs) | San Fernando, CA | 03/20/2000 | NAFTA-3,817 | warehouse & distribution center.
Chic by H.I.S.—Sierra Pacific Apparel (Co.) | Visalia, CA | 03/22/2000 | NAFTA-3,818 | jeans.
Anchor Lamina America (Wkrs) | Cheshire, CT | 03/06/2000 | NAFTA-3,819 | die sets, machined plates etc.
Labeling Systems (Co.) | Oakland, NJ | 03/27/2000 | NAFTA-3,820 | labeling machine.
Quebecor World (Co.) | Nashville, TN | 03/27/2000 | NAFTA-3,821 | commercial printing of books, magazines.
American Recreation Products (Co.) | Mineola, TX | 03/28/2000 | NAFTA-3,822 | sleeping bags.
Alliance Carolina Tool and Mold (Co.) | Arden, NC | 03/27/2000 | NAFTA-3,823 | plastic injected molded parts.
Mattel Operations (Co.) | Beaverton, OR | 04/03/2000 | NAFTA-3,824 | view master reels.
C and L Textiles (Co.) | Cooper City, FL | 04/03/2000 | NAFTA-3,825 | men's & women's clothing.
Talema Electronics (Co.) | St. James, MO | 03/29/2000 | NAFTA-3826 | toroidal transformers.
Ross Corporation (Co.) | Eugene, OR | 03/29/2000 | NAFTA-3,827 | heavy logging equipment.
Oregon Manufacturing (Co.) | Klamath Falls, OR | 03/29/2000 | NAFTA-3,828 | electronics.
Hexcel Corporation (Wkrs) | Kent, WA | 03/28/2000 | NAFTA-3,829 | air line space components.
Willamette Industrial (Wkrs) | Dallas, OR | 03/28/2000 | NAFTA-3,830 | plywood.
Midwest Micro (Wkrs) | Iron Ridge, WI | 03/27/2000 | NAFTA-3,831 | computer.
Finishing 2000 (UNITE) | El Paso, TX | 04/03/2000 | NAFTA-3,832 | jeans.
Berne Apparel (Wkrs) | Berne, IN | 04/03/2000 | NAFTA-3,833 | work apparel.
Seagate Technology (Wkrs) | Oklahoma City, OK | 04/05/2000 | NAFTA-3,834 | hard drive.
American Industrial Container (UE) | Meadville, PA | 04/07/2000 | NAFTA-3,835 | industrial containers.
Sony Professional Products (Wkrs) | Boca Raton, FL | 04/05/2000 | NAFTA-3,836 | video screen/airline entertainment.
K and D Clothing (UNITE) | Philadelphia, PA | 04/05/2000 | NAFTA-3,837 | men's suits.
Rugged Sportswear (Wkrs) | La Grange, NC | 04/04/2000 | NAFTA-3,838 | sweatshirts, sweatpants & sweatshorts.
Ametek Aerospace (IUE) | Wilmington, MA | 02/18/2000 | NAFTA-3,839 | cables and thermocouples.
Tally Sportswear (Wkrs) | Lancaster, SC | 04/10/2000 | NAFTA-3,840 | t-shirts.
Elsie Undergarment (Wkrs) | Hialeah, FL | 04/07/2000 | NAFTA-3,841 | lingerie.
IBM—International Business Machines (Wkrs) | Rochester, MN | 03/03/2000 | NAFTA-3,842 | electronic computer products.
Trinity Industries (Wkrs) | Lyndora, PA | 04/10/2000 | NAFTA-3,843 | railroad cars.
Thomson Consumer Electronics (IBEW) | Indianapolis, IN | 04/11/2000 | NAFTA-3,844 | single sided printed circuit boards.
Howeywell (USWA) | Ironton, OH | 04/12/2000 | NAFTA-3,845 | naphthalene.
Willamette (Wkrs) | Lebanon, OR | 04/13/2000 | NAFTA-3,846 | lvl presses, convyor systems.
Taylor Precisions Products (Co.) | Fletcher, NC | 04/07/2000 | NAFTA-3,847 | precisions measuring products.
Coho Resources (Wkrs) | Dallas, TX | 04/13/2000 | NAFTA-3,848 | oil and gas.
A. Schulman (PACE) | Orange, TX | 04/12/2000 | NAFTA-3,849 | polyurethane products.
Tecumseh Products (Wkrs) | Somerset, KY | 03/06/2000 | NAFTA-3,850 | compressors.
ABC NACO (Co.) | Cicero, IL | 04/10/2000 | NAFTA-3,851 | sideframes & bolsters.
Troutman Foundry (Co.) | Statesville, NC | 04/17/2000 | NAFTA-3,852 | grey iron castings.
Hatch (CO.) | El Paso, TX | 04/10/2000 | NAFTA-3,853 | power & control system integrators.
Chevron Products (Wkrs) | Roosevelt, UT | 03/27/2000 | NAFTA-3,854 | lifting & transportation crude oil.
Minard Run Oil (Wkrs) | Bradford, PA | 04/17/2000 | NAFTA-3,855 | crude oil & natural gas.
RHI Refractories America (USWA) | Womelsdorf, PA | 04/18/2000 | NAFTA-3,856 | magnesia chrome refractories.
Fort James (Co.) | Clatskanie, OR | 04/11/2000 | NAFTA-3,857 | groundwood speciality.
Raychem—Tyco Electronics (Co.) | Fuquay-Varina, NC | 04/20/2000 | NAFTA-3,858 | telecommunication cable.
ICI Explosives (Co.) | Joplin, MO | 04/25/2000 | NAFTA-3,859 | ammonium nitrate.
Pennzoil Quaker State (Co.) | Rouseville, PA | 04/21/2000 | NAFTA-3,860 | oil.
Cross Supply (Wkrs) | Olney, IL | 11/15/1999 | NAFTA-3,861 | oil.
Elcon Products International (Co.) | Fremont, CA | 04/20/2000 | NAFTA-3,862 | electrical assemblies.
Westwood Lighting (Co.) | El Paso, TX | 04/20/2000 | NAFTA-3,863 | lamps.
DTM Products—Flextronics In't (Wkrs) | Niwot, CO | 04/19/2000 | NAFTA-3,864 | small plastic parts.
Sharp Manufacturing (Wkrs) | Memphis, TN | 04/24/2000 | NAFTA-3,865 | television.
Furniture Crafts (Wkrs) | Grants Pass, OR | 04/24/2000 | NAFTA-3,866 | office furniture.
Sensus Tech (USWA) | Uniontown, PA | 04/12/2000 | NAFTA-3,867 | water meters.
Frontier Foundry (Wkrs) | Titusville, PA | 04/26/2000 | NAFTA-3,868 | aluminum steel castings.
Cooper Energy Services (Co.) | Grove City, PA | 04/27/2000 | NAFTA-3,869 | pistones.
Fairway Foods of Michigan (Wkrs) | Menominee, MI | 04/25/2000 | NAFTA-3,870 | fruits & vegetables.
Mr. Coffee—Sunbeam Products (Co.) | Glenwillow, OH | 04/17/2000 | NAFTA-3,871 | coffee & tea makers.
Philips Electronics North America (Co.) | Wartburg, TN | 04/21/2000 | NAFTA-3,872 | power supply transformer.
Solectron (Co.) | Sunwancee, GA | 04/25/2000 | NAFTA-3,873 | cellular mobile telephones.
Long Handles Shirts (Co.) | Monroe, NC | 04/27/2000 | NAFTA-3,874 | men's knit shirts.
Motor Coils (IUE) | Braddock, PA | 05/01/2000 | NAFTA-3,875 | traction motors.
Chavez Signs (Wkrs) | El Paso, TX | 05/01/2000 | NAFTA-3,876 | plywood.
Erie Controls (Co.) | Milwaukee, WI | 04/26/2000 | NAFTA-3,877 | electrical components.
Kongsberg (Wkrs) | Livania, MI | 03/29/2000 | NAFTA-3,878 | seat heaters.

[FR Doc. 00-11823 Filed 5-10-00; 8:45 am]

BILLING CODE 4510-30-M